DEPARTMENT OF STATE

[Public Notice: 7713]

U.S. Department of State Advisory Committee on Private International Law (ACPIL): Public Meeting on Electronic Commerce

The Department of State, Office of Legal Adviser, Office of Private International Law would like to give notice of a public meeting to discuss electronic transferable records. Working Group IV (international electronic commerce) of the United Nations Commission on International Trade Law (UNCITRAL) met October 10-14, 2011, to discuss matters relating to electronic transferable records. A report from that meeting, once it is published, should be available at http://www.uncitral.org/uncitral/en/commission/working_groups/4Electronic_Commerce.html.

The ACPIL public meeting will discuss relevant rules applicable to electronic transferable records, current practice involving the use of electronic transferable records, and potential areas in which work by UNCITRAL could be beneficial.

Time and Place: The public meeting will take place on Friday, January 6, 2012, from 10 a.m. to 2 p.m. EST in Room 1207 in the Department of State's Harry S. Truman Building, 2201 C Street NW., Washington, DC 20520. If you are unable to attend the public meeting and would like to participate from a remote location, teleconferencing will be available.

Public Participation: This meeting is open to the public, subject to the capacity of the meeting room. Access to the meeting building is controlled. Persons wishing to attend in person or telephonically should contact both Tricia Smeltzer (SmeltzerTK@state.gov) and Niesha Toms (TomsNN@state.gov) of the Office of the Assistant Legal Adviser for Private International Law, and provide your name, affiliation, email address, and mailing address. If you would like to participate in person, please also provide your date of birth, citizenship, and driver's license or passport number for entry in the building. Members of the public who are not pre-cleared might encounter delays with security procedures. Personal data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. A member of the public needing reasonable accommodation should advise either of the aforementioned contacts not later than December 27, 2011.

Dated: December 7, 2011.
Michael S. Coffee,
Attorney-Adviser, Office of Private International Law, Washington, DC.

[FR Doc. 2011-31982 Filed 12-12-11; 8:45 am]

BILLING CODE 4710-08-P